DEPARTMENT OF JUSTICE

Notice of Lodging of Proposed Amendment to Consent Decree Under the Comprehensive Environmental Response, Compensation, and Liability Act

On March 19, 2015, the Department of Justice lodged with the United States District Court for the Southern District of Ohio a proposed cash-out agreement in the lawsuit entitled United States v. The Atlas Lederer Company, et al. Civil Action No. 3:91-cv-309. The proposed agreement, if approved, will amend a Consent Decree entered by the Court in 1998 (“Original Decree”).

Under the Original Decree, the Settling Generator Defendants have cleaned up the United Scrap Lead Superfund Site (“Site”) in Troy, Ohio, and reimbursed the United States Environmental Protection Agency (“EPA”) for a portion of its response costs. Now, under the proposed cash-out agreement, the Settling Generator Defendants will resolve their remaining obligations under the Original Decree by (1) paying a cash-out amount of $158,564, (2) dismissing, with prejudice, their challenge to EPA's oversight bills under the Disputes clause of the Original Decree, and (3) waiving their right to share proceeds generated from the sale of the Site. In exchange, the United States shall excuse Settling Defendants from their obligations to (1) pay any additional oversight costs in the future, (2) conduct any studies reasonably necessary to support EPA's periodic review of the remedy in accordance with 42 U.S.C. 9621(c), and (3) use best efforts to obtain access to the Site from third parties. Apart from these proposed modifications, all other terms of the Original Decree remain unchanged and binding upon the parties.

The publication of this notice opens a period for public comment on the proposed cash-out agreement. Comments should be addressed to the Assistant Attorney General, Environment and Natural Resources Division, and should refer to United States v. The Atlas Lederer Company, et al., D.J. Ref. No. 90-11-3-279B. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the proposed consent decree amendment may be examined and downloaded at this Justice Department Web site: http://www.usdoj.gov/enrd/Consent_Decrees.html. We will also provide a paper copy of the proposed consent decree amendment upon written request and payment of reproduction costs. Please mail your request and payment to: Consent Decree Library, U.S. DOJ—ENRD, P.O. Box 7611, Washington, DC 20044-7611.

Please enclose a check or money order for $4.75 (19 pages at 25 cents per page reproduction cost) payable to the United States Treasury.

Randall M. Stone,
Acting Assistant Section Chief, Environmental Enforcement Section, Environment and Natural Resources Division.

[FR Doc. 2015-06761 Filed 3-24-15; 8:45 am]

BILLING CODE 4410-15-P